DEPARTMENT OF COMMERCE

National Oceanic and Atmospheric Administration

[I.D. 032400A]

Submission for OMB Review; Comment Request

The Department of Commerce (DoC) has submitted to the Office of Management and Budget (OMB) for clearance the following proposal for collection of information under the provisions of the Paperwork Reduction Act (44 U.S.C. Chapter 35).

Agency: National Oceanic and Atmospheric Administration (NOAA).

Title: National Marine Sanctuaries - Socioeconomic Impacts of Marine Reserves.

Agency Form Number(s): None.

OMB Approval Number: None.

Type of Request: New collection.

Burden Hours: 1,330.

Number of Respondents: 665.

Average Hours Per Response: 2 hours.

Needs and Uses: The National Marine Sanctuaries Act Authorizes the designation and management of National Marine Sanctuaries. NOAA has developed a process for establishing “no take” areas. The process includes establishing a Sanctuary Advisory Council (SAC) made up of representatives of all the stakeholders of a sanctuary; a working group; and scientists to provide analysis in developing alternatives for a “no-take area”. However, no-take areas have been called Ecological Reserves, Marine Reserves or Sanctuary Preservation Areas.

Also, to implement the no-take areas, a set of regulations prohibiting certain activities must be created. This proposed data collection is designed to work with each user group to develop the necessary information.

Under this requirement, a person from the agency visits the establishment and uses the survey to guide the data collection effort. The following three (3) surveys will be used in evaluating alternative boundaries for Marine Reserves in the Channel Islands National Marine Sanctuary: (1) Commercial Fishing Operations; (2) Wholesale Processors (of commercial fish); and (3) Recreational for Hire Businesses. The objective is to minimize the socioeconomic impacts of Marine Reserves.

Finally, the Marine Reserves no-take areas are used to protect sanctuary resources and resolve user conflicts. As a result, NOAA would not be able to meet the requirements under the National Environmental Policy Act (NEPA) for evaluating the socioeconomic impacts of no-take regulations if this data collection were not conducted.

Frequency: One time.

Respondent's Obligation: Voluntary.

OMB Desk Officer: David Rostker, (202) 395-3897.

Copies of the above information collection proposal can be obtained by calling or writing Linda Engelmeier, DOC Forms Clearance Officer, (202) 482-3272, Department of Commerce, Room 5027, 14th and Constitution Avenue, NW, Washington, DC 20230 (or via the Internet at LEngelme@doc.gov).

Written comments and recommendations for the proposed information collection should be sent within 30 days of publication of this notice to David Rostker, OMB Desk Officer, Room 10202, New Executive Office Building, 725 17th Street, NW, Washington, DC 20503.

Dated: March 21, 2000.
Linda Engelmeier,
Department Forms Clearance Officer, Office of the Chief Information Officer.

[FR Doc. 00-7920 Filed 3-29-00; 8:45 am]

BILLING CODE 3510-08-F